DEPARTMENT OF HOMELAND SECURITY

Federal Emergency Management Agency

44 CFR Part 65

[Docket ID FEMA-2008-0020; Internal Agency Docket No. FEMA-B-1059]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton Jr., Engineering Management Branch, Mitigation Directorate, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Mobile | Unincorporated areas of Mobile County (08-04-6003P) | May 11, 2009; May 18, 2009; Press-Register | The Honorable Stephen Nodine, President, Mobile County Commission, 205 Government Street, Mobile, AL 36644 | September 15, 2009 | 015008
Montgomery | City of Montgomery (08-04-6322P) | May 11, 2009; May 18, 2009; Montgomery Advertiser | The Honorable Todd Strange, Mayor, City of Montgomery, 103 North Perry Street, Montgomery, AL 36104 | September 15, 2009 | 010174
Tuscaloosa | City of Northport (08-04-6551P) | May 11, 2009; May 18, 2009; Tuscaloosa News | The Honorable Bobby Herndon, Mayor, City of Northport, 3500 McFarland Boulevard, Northport, AL 35476 | September 15, 2009 | 010202
Tuscaloosa | Unincorporated areas of Tuscaloosa County (08-04-6551P) | May 11, 2009; May 18, 2009; Tuscaloosa News | The Honorable W. Hardy McCollum, Probate Judge, Tuscaloosa County, 714 Greensboro Avenue, Tuscaloosa, AL 35401 | September 15, 2009 | 010201
Arizona:
Maricopa | City of El Mirage (08-09-1164P) | May 7, 2009; May 14, 2009; Arizona Business Gazette | The Honorable Fred Waterman, Mayor, City of El Mirage, Post Office Box 26, El Mirage, AZ 85335 | April 30, 2009 | 040041
Maricopa | Unincorporated areas of Maricopa County (08-09-1164P) | May 7, 2009; May 14, 2009; Arizona Business Gazette | The Honorable Andrew W. Kunasek, Chairman, Maricopa County Board of Supervisors, 301 West Jefferson Street, 10th Floor, Phoenix, AZ 85003 | April 30, 2009 | 040037
Maricopa | Unincorporated areas of Maricopa County (08-09-1294P) | May 7, 2009; May 14, 2009; Arizona Business Gazette | The Honorable Andrew W. Kunasek, Chairman, Maricopa County Board of Supervisors, 301 West Jefferson Street, 10th Floor, Phoenix, AZ 85003 | April 23, 2009 | 040037
Maricopa | City of Phoenix (08-09-1294P) | May 7, 2009; May 14, 2009; Arizona Business Gazette | The Honorable Phil Gordon, Mayor, City of Phoenix, 200 West Washington Street, 11th Floor, Phoenix, AZ 85003 | April 23, 2009 | 040051
Maricopa | City of Phoenix (08-09-1384P) | May 7, 2009; May 14, 2009; Arizona Business Gazette | The Honorable Phil Gordon, Mayor, City of Phoenix, 200 West Washington Street, 11th Floor, Phoenix, AZ 85003 | September 11, 2009 | 040051
California:
Sacramento | City of Elk Grove (08-09-1760P) | May 12, 2009; May 19, 2009; The Sacramento Bee | The Honorable Patrick Hume, Mayor, City of Elk Grove, 8401 Laguna Palms Way, Elk Grove, CA 95758 | June 2, 2009 | 060767
Sacramento | Unincorporated areas of Sacramento County (08-09-1760P) | May 12, 2009; May 19, 2009; The Sacramento Bee | The Honorable Susan Peters, Chair, Sacramento County Board of Supervisors, 700 H Street, Suite 2450, Sacramento, CA 95814 | June 2, 2009 | 060262
San Diego | City of Carlsbad (09-09-0276P) | May 1, 2009; May 8, 2009; North County Times | The Honorable Claude A. Lewis, Mayor, City of Carlsbad, 1200 Carlsbad Village Drive, Carlsbad, CA 92008 | September 8, 2009 | 060285
Santa Barbara | City of Carpinteria (08-09-1482P) | April 27, 2009; May 4, 2009; Santa Barbara News Press | The Honorable Gregg Carty, Mayor, City of Carpinteria, 5775 Carpinteria Avenue, Carpinteria, CA 93013 | May 15, 2009 | 060332
Santa Barbara | Unincorporated areas of Santa Barbara County (08-09-1482P) | April 27, 2009; May 4, 2009; Santa Barbara News Press | The Honorable Salud Carbajal, Chairman, Santa Barbara County Board of Supervisors, 105 East Anapamu Street, Santa Barbara, CA 93101 | May 15, 2009 | 060331
Ventura | Unincorporated areas of Ventura County (08-09-1921P) | May 8, 2009; May 15, 2009; Ventura Star | The Honorable Steve Bennett, Chairman, Ventura County Board of Supervisors, 800 South Victoria Avenue, Ventura, CA 93009 | September 14, 2009 | 060413
Connecticut: | Tolland | Town of Coventry (09-01-0698P) | May 11, 2009; May 18, 2009; Journal Inquirer | The Honorable Liz Woolf, Chairperson, Coventry Town Council, Town Hall, 1712 Main Street, Coventry, CT 06238 | September 15, 2009 | 090110
Colorado: | Grand | Town of Granby (08-08-0416P) | April 30, 2009; May 7, 2009; Middle Park Times | The Honorable Jynnifer Pierro, Mayor, Town of Granby, P.O. Box 440, Granby, CO 80446 | September 8, 2009 | 080248
Grand | Unincorporated areas of Grand County (08-08-0416P) | April 30, 2009; May 7, 2009; Middle Park Times | The Honorable Nancy Stuart, Chairman, Grand County Board of Commissioners, P.O. Box 264, Hot Sulphur Springs, CO 80451 | September 8, 2009 | 080280
Florida: | Charlotte | Unincorporated areas of Charlotte County (09-04-3000P | May 11, 2009; May 18, 2009; Charlotte Sun Herald | The Honorable Adam Cummings, Chairman, Board of Commissioners, Charlotte County, 18500 Murdock Circle, Port Charlotte, FL 33948 | April 30, 2009 | 120061
Marion | City of Ocala (08-04-4557P) | May 13, 2009; May 20, 2009; Star-Banner | The Honorable Randy Ewers, Mayor, City of Ocala, P.O. Box 1270, Ocala, FL 34478-1270 | September 15, 2009 | 120330
Illinois: | Will | Unincorporated areas of Will County (09-05-1623P) | May 11, 2009; May 18, 2009; The Herald News | The Honorable Lawrence M. Walsh, Will County Executive, 302 North Chicago Street, Joliet, IL 60432 | September 15, 2009 | 170695
Indiana: | Marion | City of Indianapolis (09-05-2436P) | May 8, 2009; May 15, 2009; Indianapolis Recorder | The Honorable Gregory A. Ballard, Mayor, City of Indianapolis, 2501 City-County Building, 200 East Washington Street, Indianapolis, IN 46204 | April 30, 2009 | 180159
Missouri: | St. Charles | City of St. Peters (09-07-0566P) | April 29, 2009; May 6, 2009; St. Louis Post Dispatch | The Honorable Len Pagano, Mayor, City of St. Peters, One St. Peters Centre Boulevard, St. Peters, MO 63376 | April 21, 2009 | 290319
New Mexico: | Chaves | City of Roswell (09-06-0188P) | May 1, 2009; May 8, 2009; Roswell Daily Record | The Honorable Sam D. LaGrone, Mayor, City of Roswell, 425 North Richardson Avenue, Roswell, NM 88201 | April 21, 2009 | 350006
New York: | Rockland | Town of Ramapo (09-02-0256P) | May 11, 2009; May 18, 2009; The Journal News | The Honorable Christopher St. Lawrence, Supervisor, Town of Ramapo, 237 Route 59, Suffern, NY 10901 | October 27, 2009 | 365340
Nevada: | Clark | Unincorporated areas of Clark County (09-09-0526P) | May 12, 2009; May 19, 2009; Las Vegas Review-Journal | The Honorable Rory Reid, Chair, Clark County Board of Commissioners, 500 South Grand Central Parkway, Las Vegas, NV 89106 | September 16, 2009 | 320003
Clark | City of Henderson (09-09-0526P) | May 12, 2009; May 19, 2009; Las Vegas Review-Journal | The Honorable James B. Gibson, Mayor, City of Henderson, 240 South Water Street, Henderson, NV 89015 | September 16, 2009 | 320005
Clark | City of North Las Vegas (09-09-0019P) | May 8, 2009; May 15, 2009; Las Vegas Review-Journal | The Honorable Michael L. Montandon, Mayor, City of North Las Vegas, 2200 Civic Center Drive, North Las Vegas, NV 89030 | September 14, 2009 | 320007
North Carolina: Pender | Pender County (Unincorporated Areas) (08-04-6525P) | May 6, 2009; May 13, 2009; The Pender Post | Mr. Rick Benton, Manager, Pender County, 805 South Walker Street, P.O. Box 5, Burgaw, North Carolina 28425 | September 10, 2009 | 370344
Oklahoma: Rogers | City of Catoosa (09-06-0354P) | May 6, 2009; May 13, 2009; Catoosa Times | The Honorable Rita Lamkin, Mayor, City of Catoosa, P.O. Box 190, Catoosa, OK 74015 | April 29, 2009 | 400185
South Carolina: Charleston | City of North Charleston (08-04-2279P) | April 30, 2009; May 7, 2009; Post and Courier | The Honorable R. Keith Summery, Mayor, City of North Charleston, Post Office Box 190016, North Charleston, SC 29419 | September 3, 2009 | 450042
South Dakota: Lawrence | City of Spearfish (09-08-0035P) | May 1, 2009; May 8, 2009; Black Hills Pioneer | The Honorable Jerry Krambeck, Mayor, City of Spearfish, 233 Vermont Street,Spearfish, SD 57783 | April 23, 2009 | 460046
Texas: | Brazos | City of College Station (08-06-2806P) | May 11, 2009; May 18, 2009; Bryan College Station Eagle | The Honorable Ben White, Mayor, City of College Station, P.O. Box 9960, College Station, TX 77842 | June 2, 2009 | 480083
Collin | Town of Prosper (09-06-0211P) | May 11, 2009; May 18, 2009; Dallas Morning News | The Honorable Charles Niswanger, Mayor, Town of Prosper, P.O. Box 307, Prosper, TX 75078 | September 15, 2009 | 480141
Dallas | City of Cedar Hill (08-06-2296P) | May 8, 2009; May 15, 2009; Dallas Morning News | The Honorable Rob Franke, Mayor, City of Cedar Hill, 285 Uptown Boulevard, Cedar Hill, TX 75104 | September 14, 2009 | 480168
Dallas | City of Duncanville (08-06-2296P) | May 8, 2009; May 15, 2009; Dallas Morning News | The Honorable David Green, Mayor, City of Duncanville, P.O. Box 380280, Duncanville, TX 75138 | September 14, 2009 | 480173
Denton | City of Frisco (08-06-3220P) | May 8, 2009; May 15, 2009; Frisco Enterprise | The Honorable Maher Maso, Mayor, City of Frisco, 6101 Frisco Square Boulevard, Frisco, TX 75034 | May 29, 2009 | 480134
El Paso | City of El Paso (09-06-0832P) | May 13, 2009; May 20, 2009; El Paso Times | The Honorable John Cook, Mayor, City of El Paso, City Hall, 10th Floor, Two Civic Center Plaza, El Paso, TX 79901 | September 17, 2009 | 480214
Galveston | City of League City (08-06-3081P) | May 8, 2009; May 15, 2009; Galveston County Daily News | The Honorable Toni Randall, Mayor, City of League City, 300 West Walker Street, League City, TX 77573 | April 29, 2009 | 485488
Utah: | Washington | City of LaVerkin (09-08-0296P) | April 23, 2009; April 30, 2009; St. George Spectrum | The Honorable Karl Wilson, Mayor, City of LaVerkin, 435 North Main Street, LaVerkin, UT 84745 | August 28, 2009 | 490174
Washington | City of Toquerville (09-08-0296P) | April 23, 2009; April 30, 2009; St. George Spectrum | The Honorable Kenneth Powell, Mayor, Town of Toquerville, P.O. Box 27, Toquerville, UT 84774 | August 28, 2009 | 490180
Wisconsin: | Rock | Unincorporated areas of Rock County (08-05-4045P) | April 30, 2009; May 7, 2009; Beloit Daily News | The Honorable J. Russell Podzilni, Chairman, Rock County, Board of Supervisors, 51 South Main Street, Janesvile, WI 53545 | September 11, 2009 | 550363
Walworth | Unincorporated areas of Walworth County (08-05-4045P) | May 7, 2009; May 14, 2009; Elkhorn Independent | The Honorable Nancy Russell, Chairperson, Walworth County, Board of Supervisors, P.O. Box 1001, Elkhorn, WI 53121 | September 11, 2009 | 550462

(Catalog of Federal Domestic Assistance No. 97.022, “Flood Insurance.”)

Dated: June 29, 2009.
Deborah S. Ingram,
Acting Deputy Assistant Administrator for Mitigation, Mitigation Directorate, Department of Homeland Security, Federal Emergency Management Agency.

[FR Doc. E9-16524 Filed 7-10-09; 8:45 am]

BILLING CODE 9110-12-P